POSTAL SERVICE

39 CFR Part 111

Domestic Mail Manual Changes To Announce the Periodicals Accuracy, Grading, and Evaluation (PAGE) Program

AGENCY: Postal Service.

ACTION: Proposed rule.

SUMMARY: This proposed rule changes certain sections applicable to Periodicals mail in the Domestic Mail Manual (DMM). It adds a new optional method a publisher may use to determine per-copy weights and to substantiate the advertising percentage in each edition of each issue of a periodical. The option requires Postal Service certification of the publisher's employees' ability to use PAGE-certified software accurately, and it requires the publisher to use one of the software programs that is PAGE-certified by the Postal Service. This option will eliminate the publisher's need to submit a manually marked copy showing the percentage of advertising for each edition of each issue at the time of mailing. It also eliminates to some degree the requirement for Postal Service acceptance employees to determine per-copy weights by weighing 10 copies of each edition at the time of mailing.

DATES: Comments must be received on or before November 9, 2001.

ADDRESSES: Send written comments to the Manager, Business Mail Acceptance, U.S. Postal Service, 1735 North Lynn Street, Room 3011, Arlington, VA 22209-6030. Written comments may be submitted via fax to 703-292-3738. Copies of all written comments will be available for inspection and photocopying between 9 a.m. and 4 p.m., Monday through Friday, at the above address.

FOR FURTHER INFORMATION CONTACT: Charles Tricamo, New York Rates and Classification Service Center, 212-613-8754.

SUPPLEMENTARY INFORMATION: New technology innovations have been made in the publishing industry. In response, the Postal Service developed an evaluation program to test the accuracy of publishing and print planning (PPP) software to calculate advertising percentages and copy weights. The Postal Service proposes to use the new certification process to reduce the time the publisher spends manually computing advertising percentages and the need for Postal Service staff to verify per-copy weights.

This new optional program was designed in cooperation with the Periodicals industry. It allows publishers to submit postage statements entirely completed using electronically generated per-copy weights in a completely automated environment. The Postal Service will sample a limited amount of actual copies to ensure the weights are accurate. If the sampling determines that the publisher's weights are not within tolerance, a postage adjustment will be generated.

To participate in this program, publishers must successfully complete three stages of authorization.

Stage One—Certification of Software Developer

Developers may have their PPP software certified by applying to the National Customer Support Center (NCSC) and paying the appropriate fee. Developers are charged the software analysis fee of $1,000.00 for testing at the NCSC. One charge will cover up to three certification reviews of a specific software package by a software developer. If a developer requires an on-site analysis the fee will be $2,500.00. An additional $1,500.00 will be charged for each subsequent certification review of a specific software package required at a developer's site. A developer's software will be certified for one PAGE cycle only. A PAGE cycle is one year beginning with the date that will be announced by the Postal Service in the final Federal Register notice. Certification for the next PAGE cycle will require payment of an analysis fee of either $1,000.00 for NCSC analysis or $2,500.00 for an on-site analysis. Publishers must use PPP software certified by the Postal Service to generate per-copy weights and advertising percentages to progress to the next stage.

The first testing cycle is planned for November 2001.

Stage Two—Certification of Publisher's Employees as Software Users

A publisher may participate in PAGE only when its employees have been certified by the Postal Service to use PAGE-certified software. All of a publisher's employees who will input data into a PPP software program must be certified. Publishers will be charged $25.00 for a User Testing Package and Analysis Kit for each employee. There will be a $25.00 fee for each attempt at user certification. Every user must reapply for certification every two years. Any new employees who will use PPP software must be certified before using the software if a publisher has been authorized to submit Periodicals mailings using PAGE. At the publisher's option, a reference kit containing mailing standards; Postal Service Customer Service Support Rulings (and updates); Publication 32, Glossary of Postal Terms; and Postal Explorer may be purchased for $20.00.

A users testing cycle is planned for December 2001.

Stage Three—Authorization To Accept Publisher's PAGE-Certified Periodicals Weights and Advertising Percentages

Publishers must be authorized to submit their PAGE-certified calculated copy weights and advertising percentages to participate in the program. To be authorized, publishers must complete an application. The application may be obtained from and must be returned to the New York Rates and Classification Service Center (RCSC), U.S. Postal Service, 1250 Broadway, 14th Floor, New York, NY 10095-9599. A publisher must report all authorized Periodicals publications and print sites that will use PAGE-certified software. There is no charge for this authorization and the publisher must reapply annually.

Although exempt from the notice and comment requirements of the Administrative Procedure Act (5 U.S.C. 553(b), (c)) regarding proposed rulemaking by 39 U.S.C. 410(a), the Postal Service invites comments on the following proposed revisions to the Domestic Mail Manual, incorporated by reference in the Code of Federal Regulations. See 39 CFR Part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

P Postage and Payment Methods

P000 BASIC INFORMATION

P010 General Standards

* * * * *

P013 Rate Application and Computation

* * * * *

7.0 COMPUTING POSTAGE—PERIODICALS

7.1 Percentage of Advertising

[Add the following sentence at the end of 7.1:]

* * * Advertising percentages may also be calculated through the Periodicals Accuracy, Grading, and Evaluation (PAGE) Program using the procedures in P200.4.0.

7.2 Weight Per Copy

[Add the following sentence at the end of 7.2:]

* * * Per-copy weights may also be calculated through the Periodicals Accuracy, Grading, and Evaluation (PAGE) Program using the procedures in P200.4.0.

* * * * *

P200 Periodicals

1.0 BASIC INFORMATION

* * * * *

1.2 Marked Copy

[Add the following sentence at the end of 1.2:]

* * * Mailers do not have to submit marked copies if certified by the Postal Service to use the Periodicals Accuracy, Grading, and Evaluation (PAGE) Program in 4.0.

* * * * *

[Add new 4.0 as follows:]

4.0 PERIODICALS ACCURACY, GRADING, AND EVALUATION (PAGE) PROGRAM

4.1 Overview

The Periodicals Accuracy, Grading, and Evaluation (PAGE) Program is a process to evaluate publishing and print planning (PPP) software and determine its accuracy in computing per-copy weights and calculating advertising percentages for Periodicals mail. Certification of PAGE software is available only to companies that use PPP software. PAGE certification does not guarantee acceptance of a publisher's per-copy weights and advertising percentages prepared with PAGE-certified software.

4.2 Process

The PAGE Program evaluates and tests PPP software. In addition, the PAGE Program tests and qualifies publishing personnel to submit data to the Postal Service using PAGE and certified PPP software. The PAGE Program involves the following three elements:

a. Product Certification for Software Developers. The National Customer Support Center (NCSC) evaluates the accuracy of the calculations of PPP software by processing a test publication file either at the NCSC or at the developer's location (on-site visit).

b. User Certification for PPP Software. The NCSC provides test packages to the users and evaluates the results.

c. PAGE Program Authorization. Publishers who want to use PAGE-certified software and PAGE-certified users to submit per-copy weight and calculated advertising percentages must apply for authorization to the Manager, New York Rates and Classification Service Center (RCSC). See G042 for address.

4.3 Participation

For information about the PAGE certification program, publishers may request a program technical guide (including order forms) by calling 800-238-3150.

* * * * *

If this proposal is adopted, an appropriate amendment to 39 CFR 111.3 will be published to reflect this change.

Stanley F. Mires,
Chief Counsel, Legislative.

[FR Doc. 01-25433 Filed 10-9-01; 8:45 am]

BILLING CODE 7710-12-P